COMMITTEE FOR PURCHASE FROM PEOPLE WHO ARE BLIND OR SEVERELY DISABLED

Procurement List Proposed Additions and Deletion

AGENCY: Committee for Purchase From People Who Are Blind or Severely Disabled.

ACTION: Proposed Additions to and Deletion From Procurement List.

SUMMARY: The Committee is proposing to add to the Procurement List product and services to be furnished by nonprofit agencies employing persons who are blind or have other severe disabilities, and to delete the service previously furnished by such agencies.

Comments Must Be Received on or Before: 7/27/2009.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

NSN: 7530-01-418-1314—Folder, File, Classification.

NPA: The Clovernook Center for the Blind, Cincinnati, OH.

Contracting Activity: Federal Acquisition Service, GSA/FSS OFC SUP CTR—Paper Products.

Coverage: A-list for the total government requirement aggregated by General Service Administration.

Services

Service Type/Location: Dining Attendant Services, Basewide, Naval Air Station Whidbey Island, WA.

NPA: New Leaf, Inc., Oak Harbor, WA.

Contracting Activity: Dept of the Navy, FISC Puget Sound.

Service Type/Location: Dining Attendant Services, Naval Base Kitsap (Basewide Bremerton and Bangor), WA, Fleet & Industrial Supply Center FISC, Puget Sound, Bremerton, WA.

NPA: Skookum Educational Programs, Bremerton, WA.

Contracting Activity: Dept of the Navy, FISC Puget Sound, WA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

End of Certification

The following service is proposed for deletion from the Procurement List:

Service:

Service Type/Location: Janitorial/Custodial, U.S. Army Reserve Center: 950 New Castle Road, Farrell, PA.

NPA: Unknown (No Performing Agency).

Contracting Activity: Dept of the Army, XR W40M NATL Region Contract OFC.

Barry S. Lineback,
Director, Business Operations.

[FR Doc. E9-15162 Filed 6-25-09; 8:45 am]

BILLING CODE 6353-01-P